DEPARTMENT OF HEALTH AND HUMAN SERVICES

Health Resources and Services Administration

Agency Information Collection Activities: Proposed Collection: Public Comment Request Information Collection Request Title: Faculty Loan Repayment Program OMB No. 0915-0150—Revision

AGENCY: Health Resources and Services Administration, (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than December 7, 2020.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the ICR title for reference.

Information Collection Request Title: Faculty Loan Repayment Program OMB No. 0915-0150—Revision.

Abstract: The U.S. Department of Health and Human Services (HHS), HRSA, Bureau of Health Workforce administers the Faculty Loan Repayment Program (FLRP). FLRP provides degree-trained health professionals from disadvantaged backgrounds based on environmental and/or economic factors the opportunity to enter into a contract with the HHS in exchange for the repayment of qualifying educational loans for a minimum of 2 years of service as a full-time or part-time faculty member at eligible health professions schools.

Need and Proposed Use of the Information: The information collected will be used to evaluate applicants' eligibility to participate in FLRP and to monitor FLRP-related activities. For this revised ICR, the FLRP proposes to include a Disadvantaged Background (DB) form to the FLRP application. FLRP applicants are required to provide certification from a health professions school previously attended that identifies the individual as coming from an economically or environmentally disadvantaged background. In the past, applicants provided this information in varying formats. The DB form will not request new information from FLRP applicants but will allow for an easier method for applicants to compete and convey their DB status in addition to standardizing the collection of information. The information collected will be used to evaluate applicants' rank and tier in the FLRP award process.

Likely Respondents: FLRP applicants and institutions providing employment to the applicants.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Eligible Applications | 186 | 1 | 186 | 1 | 186
Institution/Loan Repayment Employment Form | * 186 | 1 | 186 | 1 | 186
Authorization to Release Information Form | 186 | 1 | 186 | .25 | 46.5
Disadvantaged Background Form | 186 | 1 | 186 | .20 | 37.2
Total | 744 |  | 744 |  | 455.70
* Respondent for this form is the institution for the applicant.

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2020-22023 Filed 10-5-20; 8:45 am]

BILLING CODE 4165-15-P